DEPARTMENT OF THE TREASURY

Office of Foreign Assets Control

[Docket Number OFAC-2021-0003]

Effectiveness of Licensing Procedures for Exportation of Agricultural Commodities, Medicine, and Medical Devices to Sudan and Iran; Comment Request

AGENCY: Office of Foreign Assets Control, Treasury.

ACTION: Request for comments.

SUMMARY: The Department of the Treasury's Office of Foreign Assets Control (OFAC) is soliciting comments on the effectiveness of OFAC's licensing procedures for the exportation of agricultural commodities, medicine, and medical devices to Sudan and Iran for the time period between October 1, 2016, to September 30, 2018. Pursuant to the Trade Sanctions Reform and Export Enhancement Act of 2000, OFAC is required to submit a biennial report to the Congress on the operation of licensing procedures for such exports.

DATES: Written comments should be received on or before October 1, 2021, to be assured of consideration for the report.

ADDRESSES: You may submit comments by any of the following methods:

Federal eRulemaking Portal: www.regulations.gov. Follow the instructions for submitting comments.

Email: OFACreport@treasury.gov with Attn: Request for Comments (TSRA).

Instructions: All submissions received must include the agency name and refer to Docket number OFAC-2021-0003. All comments, including attachments and other supporting materials, will become part of the public record and subject to public disclosure. Sensitive personal information, such as account numbers or Social Security numbers, should not be included. Comments generally will not be edited to remove any identifying or contact information.

FOR FURTHER INFORMATION CONTACT: Requests for additional information about these licensing procedures should be directed to the Assistant Director for Licensing, 202-622-2480. Additional information about these licensing procedures is also available at www.treasury.gov/tsra.

SUPPLEMENTARY INFORMATION: The current procedures used by OFAC pursuant to the Trade Sanctions Reform and Export Enhancement Act of 2000 (Title IX of Pub. L. 106-387, 22 U.S.C. 7201 et seq.) (the “Act”) for authorizing the export and reexport of agricultural commodities, medicine, and medical devices to Iran are set forth in 31 CFR 560.530, 560.532, and 560.533. Between October 22, 2012, and December 23, 2016, OFAC issued a series of general licenses and published amendments to the Iranian Transactions and Sanctions Regulations, 31 CFR part 560, to expand the scope of these authorizations and to issue new or expanded authorizations, including authorizations related to training, replacement parts, software, and services for the operation, maintenance, and repair of medical devices, and items that are broken or connected to product recalls or other safety concerns to Iran. See 31 CFR 560.530(a)(2) through (6). Accordingly, specific licenses are no longer required for these exports and related activities.

Effective October 12, 2017, sections 1 and 2 of Executive Order (E.O.) 13067 of November 3, 1997, “Blocking Sudanese Government Property and Prohibiting Transactions With Sudan” (62 FR 59989, November 5, 1997), and E.O. 13412 of October 13, 2006, “Blocking Property of and Prohibiting Transactions With the Government of Sudan” (71 FR 61369, October 17, 2006), were revoked, pursuant to E.O. 13761 of January 13, 2017, “Recognizing Positive Actions by the Government of Sudan and Providing for the Revocation of Certain Sudan-Related Sanctions” (82 FR 5331, January 18, 2017), as amended by E.O. 13804 of July 11, 2017, “Allowing Additional Time for Recognizing Positive Actions by the Government of Sudan and Amending Executive Order 13761” (82 FR 32611, July 14, 2017). As a result of the revocation of these sanctions provisions, U.S. persons are no longer prohibited from engaging in transactions that were previously prohibited under these provisions, and the Sudanese Sanctions Regulations, 31 CFR part 538, were revoked (83 FR 30539, June 29, 2018). However, pursuant to the Act, an OFAC license was required for exports and reexports to the Government of Sudan or any other entity in Sudan of agricultural commodities, medicine, and medical devices prior to the Secretary of State's December 14, 2020, recission of the designation of Sudan as a State Sponsor of Terrorism (85 FR 82565, December 18, 2020).

Under the provisions of section 906(c) of the Act, OFAC must submit a biennial report to the Congress on the operation, during the preceding two-year period, of the licensing procedures required by section 906 of the Act for the export of agricultural commodities, medicine, and medical devices to Sudan and Iran. This report is to include:

(1) The number and types of licenses applied for;

(2) The number and types of licenses approved;

(3) The average amount of time elapsed from the date of filing of a license application until the date of its approval;

(4) The extent to which the licensing procedures were effectively implemented; and

(5) A description of comments received from interested parties about the extent to which the licensing procedures were effective, after holding a public 30-day comment period.

This document solicits comments from interested parties regarding the effectiveness of OFAC's licensing procedures for the export of agricultural commodities, medicine, and medical devices to Sudan and Iran for the time period between October 1, 2016 and September 30, 2018. Interested parties submitting comments are asked to be as specific as possible. In the interest of accuracy and completeness, OFAC requires written comments. All comments received on or before October 1, 2021, will be considered by OFAC in developing the report to the Congress. Consideration of comments received after the end of the comment period cannot be assured.

All comments made will be a matter of public record. OFAC therefore will neither accept nor consider comments accompanied by a request that part or all of the comments be treated confidentially because of their business proprietary nature or for any other reason. Copies of past biennial reports may be obtained from OFAC's website: https://home.treasury.gov/system/files/126/tsra.pdf.

Dated: August 27, 2021.
Bradley T. Smith,
Acting Director, Office of Foreign Assets Control.

[FR Doc. 2021-18852 Filed 8-31-21; 8:45 am]

BILLING CODE 4810-AL-P